DEPARTMENT OF THE INTERIOR

National Park Service

[NPS-WASO-NAGPRA-13278; PPWOCRADN0-PCU00RP14.R50000]

Notice of Intent to Repatriate Cultural Item: Maxwell Museum of Anthropology, University of New Mexico, Albuquerque, NM

AGENCY: National Park Service, Interior.

ACTION: Notice.

SUMMARY: The Maxwell Museum of Anthropology, in consultation with the appropriate Indian tribes or Native Hawaiian organizations, has determined that a cultural item listed in this notice meets the definition of sacred object. Lineal descendants or representatives of any Indian tribe or Native Hawaiian organization not identified in this notice that wish to claim this cultural item should submit a written request to the Maxwell Museum of Anthropology. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the Maxwell Museum of Anthropology at the address in this notice by August 29, 2013.

ADDRESSES: David Phillips, Curator of Archaeology, Maxwell Museum of Anthropology, MSC01 1050, University of New Mexico, Albuquerque, NM 87131, telephone (505) 277-9229.

SUPPLEMENTARY INFORMATION: Notice is here given in accordance with the Native American Graves Protection and Repatriation Act (NAGPRA), 25 U.S.C. 3005, of the intent to repatriate a cultural item under the control of the Maxwell Museum of Anthropology, University of New Mexico, Albuquerque, NM, that meet the definition of sacred objects under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In 1970, a private collector donated a small collection of items to the Maxwell Museum of Anthropology, University of New Mexico. One item, catalogue number 70.77.8, is a ceremonial bandolier reported to be from the Kewa Pueblo, New Mexico (previously listed as the Pueblo of Santo Domingo), and possibly used as late as 1970. In 2013, a delegation from the Kewa Pueblo, New Mexico (previously listed as the Pueblo of Santo Domingo) inspected the bandolier, confirmed that it was a sacred object from their tribe, and requested its return.

Determinations Made by the Maxwell Museum of Anthropology

The Collections and Research Committee of the Maxwell Museum of Anthropology has determined that:

• Pursuant to 25 U.S.C. 3001(3)(C), the cultural item described above is a specific ceremonial object needed by traditional Native American religious leaders for the practice of traditional Native American religions by their present-day adherents.

• Pursuant to 25 U.S.C. 3001(2), there is a relationship of shared group identity that can be reasonably traced between the sacred object and the Kewa Pueblo, New Mexico (previously listed as the Pueblo of Santo Domingo).

Additional Requestors and Disposition

Lineal descendants or representatives of any Indian tribe or Native Hawaiian organization not identified in this notice that wish to claim this cultural item should submit a written request with information in support of the claim to David Phillips, Curator of Archaeology, Maxwell Museum of Anthropology, MSC01 1050, University of New Mexico, Albuquerque NM 87131, telephone (505) 277-9229 by August 29, 2013. After that date, if no additional claimants have come forward, transfer of control of the sacred object to Kewa Pueblo, New Mexico (previously listed as the Pueblo of Santo Domingo) may proceed.

The Maxwell Museum is responsible for notifying Kewa Pueblo, New Mexico (previously listed as the Pueblo of Santo Domingo) that this notice has been published.

Dated: June 11, 2013.
Sherry Hutt,
Manager, National NAGPRA Program.

[FR Doc. 2013-18279 Filed 7-29-13; 8:45 am]

BILLING CODE 4312-50-P